DEPARTMENT OF THE INTERIOR

National Park Service

[N6811; NPS-WASO-NAGPRA-NPS0041632; PPWOCRADN0-PCU00RP14.R50000]

Notice of Inventory Completion: Florida Department of State, Tallahassee, FL

AGENCY: National Park Service, Interior.

ACTION: Notice.

SUMMARY: In accordance with the Native American Graves Protection and Repatriation Act (NAGPRA), the Florida Department of State (FDOS) has completed an inventory of human remains and has determined that there is a cultural affiliation between the human remains and Indian Tribes or Native Hawaiian organizations in this notice.

DATES: Repatriation of the human remains in this notice may occur on or after January 21, 2026.

ADDRESSES: Send written requests for repatriation of the human remains in this notice to Tea Kaplan, Florida Department of State, 2100 W Tennessee Street, Tallahassee, FL 32304, email Tea.Kaplan@dos.fl.gov.

SUPPLEMENTARY INFORMATION: This notice is published as part of the National Park Service's administrative responsibilities under NAGPRA. The determinations in this notice are the sole responsibility of the FDOS, and additional information on the determinations in this notice, including the results of consultation, can be found in its inventory or related records. The National Park Service is not responsible for the determinations in this notice.

Abstract of Information Available

Human remains representing, at least, one individual have been identified. No associated funerary objects are present. Ancestral human remains were transferred to the Florida Department of State in 2022 under 872.05, Florida Statutes from an individual who had collated collections from deceased archaeologists who had worked for Brevard Junior College, Brevard County, Florida. Identifying information with the remains indicate that they were removed by archaeologist Tom Dooley from an unspecified location named “Jemez Pueblo, Jemez Springs”, which may refer to a locale near the Pueblo of Jemez or the Village of Jemez Springs.

Cultural Affiliation

Based on the information available and the results of consultation, cultural affiliation is reasonably identified by the geographical location or acquisition history of the human remains described in this notice.

Determinations

The FDOS has determined that:

• The human remains described in this notice represent the physical remains of one individual of Native American ancestry.

• There is a connection between the human remains described in this notice and the Pueblo of Jemez, New Mexico.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after January 21, 2026. If competing requests for repatriation are received, the FDOS must determine the most appropriate requestor prior to repatriation. Requests for joint repatriation of the human remains are considered a single request and not competing requests. The FDOS is responsible for sending a copy of this notice to the Indian Tribes and Native Hawaiian organizations identified in this notice.

Authority: Native American Graves Protection and Repatriation Act, 25 U.S.C. 3003, and the implementing regulations, 43 CFR 10.10.

Dated: December 11, 2025.
Melanie O'Brien,
Manager, National NAGPRA Program.

[FR Doc. 2025-23544 Filed 12-19-25; 8:45 am]

BILLING CODE 4312-52-P